ENVIRONMENTAL PROTECTION AGENCY

[FRL-8555-6]

EPA Science Advisory Board Staff Office Request for Nominations of Candidates for EPA Advisory Council on Clean Air Compliance Analysis; EPA Clean Air Scientific Advisory Committee and EPA Science Advisory Board

AGENCY: Environmental Protection Agency.

ACTION: Notice.

SUMMARY: The U.S. Environmental Protection Agency's (EPA) Science Advisory Board (SAB) Staff Office is soliciting nominations for consideration of membership on EPA's Advisory Council on Clean Air Compliance Analysis (Council), EPA's Clean Air Scientific Advisory Committee (CASAC), and EPA's Science Advisory Board (SAB) and its Standing Subcommittees.

DATES: Nominations should be submitted in time to arrive no later than May 19, 2008.

FOR FURTHER INFORMATION CONTACT: Nominators unable to submit nominations electronically as described below, may submit a paper copy by contacting Ms. Wanda Bright, U.S. EPA SAB Staff Office (Mail Code 1400F), 1200 Pennsylvania Avenue, NW., Washington, DC 20460 (FedEx/Courier address: U.S. EPA SAB, Suite 3600, 1025 F Street, NW., Washington, DC 20004), (202) 343-9986 (telephone), (202) 233-0643 (fax), or via e-mail at bright.wanda@epa.gov. General inquiries regarding the work of the Council, CASAC and SAB may be directed to Dr. Anthony F. Maciorowski, Deputy Director, U.S. EPA SAB Staff Office, (202) 343-9983 (telephone), or via e-mail at: maciorowski.anthony@epa.gov.

Background: Established by statute, the Council (42 U.S.C 7612), the CASAC (42 U.S.C. 7409) and SAB (42 U.S.C. 4365) are EPA's chartered Federal Advisory Committees that provide independent scientific and technical peer review, consultation, advice and recommendations directly to the EPA Administrator on a wide variety of EPA science activities. As Federal Advisory Committees, the Council, CASAC, and SAB conduct business in accordance with the Federal Advisory Committee Act (FACA) (5 U.S.C. App. C) and related regulations. Generally, Council, CASAC and SAB meetings are announced in the Federal Register, conducted in public view, and provide opportunities for public input during deliberations. Additional information about these Federal Advisory Committees may be found at: http://www.epa.gov/advisorycouncilcaa, http://www.epa.gov/casac, and http://www.epa.gov/sab.

Members of the Council, CASAC, the SAB, and their Subcommittees constitute a distinguished body of non-EPA scientists, engineers, economists, and social scientists that are nationally and internationally recognized experts in their respective fields. Members are appointed by the EPA Administrator for a period of three years, with the possibility of re-appointment to a second three-year term. This notice specifically requests nominations for the chartered Council, the chartered CASAC, the chartered SAB and its Subcommittees.

Expertise Sought: The Council was established in 1990 pursuant to the Clean Air Act (CAA) Amendments of 1990 to provide advice and recommendations to the EPA Administrator on technical and economic aspects of the impacts of the Clean Air Act (CAA) on the public health, economy, and environment of the United States. The SAB Staff Office is seeking nominations of experts for the Council in the following disciplines: Air quality modeling; environmental economics; and epidemiology.

Established in 1977 under the Clean Air Act (CAA) Amendments, the chartered CASAC reviews and offers scientific advice to the EPA Administrator on technical aspects of national ambient air quality standards for criteria pollutants. As required under the CAA section 109(d), CASAC will be composed of seven members, with at least one member of the National Academy of Sciences, one physician, and one person representing State air pollution control agencies. The SAB Staff Office is seeking nominations of experts for CASAC in the following disciplines: Environmental health sciences; inhalation toxicology; risk assessment; statistics; mathematics; and biostatistics.

The chartered SAB (or Board) was established in 1978 by the Environmental Research, Development and Demonstration Act to provide independent advice to the Administrator on general scientific and technical matters underlying the Agency' policies and actions. All the work of the SAB is under the direction of the Board. The chartered Board provides strategic advice to the EPA Administrator on a variety of EPA science and research issues and programs and reviews and approves all SAB Subcommittee and Panel reports. The chartered SAB consists of about thirty members. The SAB Staff Office is seeking nominations of experts for the chartered Board in the following disciplines: Behavioral and decision sciences; ecological sciences; environmental economics; environmental engineering; environmental modeling; epidemiology; risk assessment, statistics, mathematics, and biostatistics.

The SAB Drinking Water Committee (DWC) provides advice on the technical aspects of EPA's national drinking water standards program. The SAB Staff office is seeking nominations of experts for the DWC in the following disciplines: Chemistry; epidemiology; environmental health sciences; and environmental engineering.

The SAB Exposure and Human Health Committee (EHHC) provides advice on the development and use of guidelines for human health effects, exposure assessment, and risk assessment. The SAB Staff office is seeking nominations of experts for the EHHC in the following disciplines: Carcinogenesis; reproductive toxicology; developmental toxicology; epidemiology; and risk assessment.

The Radiation Advisory Committee (RAC) provides advice on radiation protection, radiation science, and radiation risk assessment. The SAB Staff office is seeking nominations of experts for the RAC in the following disciplines: Radiation biology, radiation biophysics, radiation dosimetry, and cancer epidemiology.

How to Submit Nominations: Any interested person or organization may nominate qualified persons to be considered for appointment to these chartered advisory committees and SAB Standing Committees. Individuals may self-nominate. Qualified nominees will demonstrate appropriate scientific education, training, and experience to evaluate basic and applied science issues addressed by these advisory committees. Successful nominees will have distinguished themselves professionally and be available to invest the time and effort in providing advice and recommendations on the development and application of science at EPA. Nominations should be submitted in electronic format (preferred) following the instructions for “Nominating Experts to a Chartered Advisory Committee or Standing Committee” provided on the SAB Web site. The form can be accessed through the “Public Involvement in Advisory Committee” link on the blue navigational bar on the SAB Web site at: http://www.epa.gov/sab. To be considered, all nominations should include the information requested.

Nominators are asked to identify the specific committee(s) for which nominees would like to be considered. The nominating form requests contact information about: The person making the nomination; contact information about the nominee; the disciplinary and specific areas of expertise of the nominee; the nominee's curriculum vita; and a biographical sketch of the nominee indicating current position, educational background; research activities; and recent service on other national advisory committees or national professional organizations. Persons having questions about the nomination procedures, or who are unable to submit nominations through the SAB Web site, should contact Ms. Wanda Bright as indicated above in this notice. Non-electronic submissions must follow the same format and contain the same information as the electronic form. The SAB Staff Office will acknowledge receipt of nominations.

Candidates invited to serve will be asked to submit the “Confidential Financial Disclosure Form for Special Government Employees Serving on Federal Advisory Committees at the U.S. Environmental Protection Agency” (EPA Form 3110-48). This confidential form allows EPA to determine whether there is a statutory conflict between that person's public responsibilities as a Special Government Employee and private interests and activities, or the appearance of a lack of impartiality, as defined by Federal regulation. The form may be viewed and downloaded through the “Ethics Requirements for Advisors” link on the blue navigational bar on the SAB Web site at: http://www.epa.gov/sab. This form should not be submitted as part of a nomination.

The SAB Staff Office seeks candidates who possess the necessary domains of knowledge, and relevant scientific perspectives (which, among other factors, can be influenced by work history and affiliation) to adequately address scientific issues facing the Agency. The primary criteria to be used in evaluating potential nominees will be scientific and/or technical expertise, knowledge, and experience. Additional criteria that will be used to evaluate technically qualified nominees will include: The absence of financial conflicts of interest; scientific credibility and impartiality; availability and willingness to serve; and the ability to work constructively and effectively on committees. The selection of new members will also include consideration of the collective breadth and depth of scientific perspectives; a balance of scientific perspectives; continuity of knowledge and understanding of EPA missions and environmental programs, and diversity factors (e.g., geographical areas and professional affiliations) for each of the chartered committees and subcommittees.

Dated: April 11, 2008.
Vanessa T. Vu,
Director, EPA Science Advisory Board Staff Office.

[FR Doc. E8-8401 Filed 4-17-08; 8:45 am]

BILLING CODE 6560-50-P